DEPARTMENT OF ENERGY

International Energy Agency Meeting

AGENCY: Department of Energy.

ACTION: Notice of meeting.

SUMMARY: The Industry Advisory Board (IAB) to the International Energy Agency (IEA) will meet on November 12, 2002, at the headquarters of the IEA in Paris, France, and on November 12-13, 2002, in connection with a meeting of the IEA's Standing Group on Emergency Questions (SEQ).

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on November 12, 2002, from 9:30 a.m. to noon. The Agenda for the IAB meeting is as follows:

1. Welcome and Review of Agenda

2. Introduction of Attendees

3. IEA Priorities and Challenges

—Questions and Answers

4. Legal Ground Rules for IAB

—Questions and Answers

5. IEA Overview and Introduction to the Office of Oil Markets and Emergency Preparedness

6. Joint Oil Data Exercise

—History and Status

—Role for Companies

—Questions and Answers

7. IEA Emergency Response Capability

—IEA's Role in Oil Crises

—Role of IAB and Industry Supply Advisory Group in an Oil Crisis

—Questions and Answers

8. SEQ Program of Work Overview

—Overview of SEQ Work Plan for 2003/2004

—Role for IAB in Supporting SEQ Work Plan

9. General Discussion

—How Can the IAB Better Assist the IEA with Oil Issues?

10. IAB Future Issues

A meeting of the IAB will be held on November 12 and 13, 2002, at the headquarters of the IEA, commencing at 2:30 p.m. on November 12. The purpose of this notice is to permit attendance by representatives of U.S. company members of the IAB at a meeting of the IEA's SEQ, which is scheduled to be held at the same time and location.

The Agenda for the SEQ meeting is under the control of the SEQ. It is expected that the SEQ will adopt the following Agenda:

Tuesday, November 12, 2002, 2:30 p.m.

1 Adoption of the Agenda

2. Approval of the Summary Record of the 105th Meeting

3. The SEQ Program of Work for 2003-2004

4. Update on Compliance with International Energy Program (IEP) Stockholding Commitments

—Report by Non-Complying Member Countries (Austria, Italy, Luxembourg, Portugal)

—Information on French Stockholding Regulations

—Report on Monthly Oil Statistics

5. Presentation and Informal Discussion on the Impacts of Supply Disruptions in the Middle East

Wednesday, November 13, 2002, 9:30 a.m.

6. Information about the Outcome of Governing Board Discussion on Initial Contingency Response Plan

7. Policy and Legislative Developments in Member Countries

—Korea

—United States

—European Union

—Others

8. The Current Oil Market Situation

9. Report on Developments in Non-Member Countries and International Organizations

—Report on Oil Stockholding Seminar in Southeastern Europe

—IEA/ASEAN Oil Security Workshop

—Preparation for a Joint IEA/China Seminar on Oil Stocks and Emergency Response

—Report on International Energy Forum, Osaka

—Report on Joint Oil Data Exercise

10. Report on Annual Meeting of IAB and Current Activities of IAB

11. Other Emergency Response Activities

—Transport Demand Restraint Study: Result of Survey and Next Steps

—Revised Questionnaire on Minimum Operating Requirements

12. Emergency Response Reviews of IEA and Candidate Countries

—Belgium

—Luxembourg

—Poland

—Revised Schedule of Emergency Response Reviews for 2003-2004

13. Other Documents for Information

—Emergency Reserve Situation of IEA Member Countries on July 1, 2002

—Emergency Reserve Situation of IEA Candidate Countries on July 1, 2002

—Monthly Oil Statistics: July 2002

—Base Period Final Consumption: 3Q2001—2Q2002

—Quarterly Oil Forecast: Fourth Quarter 2002

—Update of Emergency Contacts List

14. Other Business

—Information on Ministerial Meeting, 2003

—Information on Workshop on Stockholding, 2003

—Dates of Next Meetings:

March 18-20, 2003

June 17-18, 2003

November 18-20, 2003

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, October 31, 2002.
Eric J. Fygi,
Deputy General Counsel.

[FR Doc. 02-28167 Filed 11-1-02; 11:25 am]

BILLING CODE 6450-01-P